DEPARTMENT OF THE INTERIOR

National Park Service

[NPS-WASO-NAGPRA-NPS0030757; PPWOCRADN0-PCU00RP14.R50000]

Notice of Inventory Completion: U.S. Department of the Interior, Bureau of Reclamation, Interior Region 10: California—Great Basin, Sacramento, CA

AGENCY: National Park Service, Interior.

ACTION: Notice.

SUMMARY: The U.S. Department of the Interior, Bureau of Reclamation, Interior Region 10: California—Great Basin (Reclamation Region 10), has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to Reclamation Region 10. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the U.S. Department of the Interior, Bureau of Reclamation, Interior Region 10—California—Great Basin, at the address in this notice by October 8, 2020.

ADDRESSES: Melanie Ryan, NAGPRA Specialist/Physical Anthropologist, Bureau of Reclamation, Interior Region 10: California—Great Basin, CGB-153, 2800 Cottage Way, Sacramento, CA 95825, telephone (916) 978-5526, email emryan@usbr.gov.

SUPPLEMENTARY INFORMATION: Notice is here given in accordance with the Native American Graves Protection and Repatriation Act (NAGPRA), 25 U.S.C. 3003, of the completion of an inventory of human remains and associated funerary objects under the control of the U.S. Department of the Interior, Bureau of Reclamation, Interior Region 10: California—Great Basin, Sacramento, CA, and currently housed at the Department of Anthropology Museum, University of California, Davis, Davis, CA. The human remains and associated funerary objects were removed from Federal land in Napa County, CA managed by Reclamation Region 10.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by Reclamation Region 10 professional staff in consultation with representatives of the Yocha Dehe Wintun Nation, California (previously listed as Rumsey Indian Rancheria of Wintun Indians of California) conducted from 2017 to 2019.

History and Description of the Remains

In 1977, the human remains of, at minimum, two individuals were removed from the Indian Hill Site (CA-NAP-433), located near the west shore of Lake Berryessa and northeast of Putah Bridge in Napa County, CA. In the 1950s, after the construction of Monticello Dam, the site was inundated with the infilling of Lake Berryessa. In 1976-77, the reservoir receded in response to severe drought, exposing the site. Reclamation responded by sponsoring salvage excavations by a University of California, Davis (UC Davis) field school under the direction of Professors Delbert L. True and Martin A. Baumhoff. In the fall of 1976, the field school completed a surface survey, and in the summer of 1977, it conducted excavations. Approximately three cubic meters were excavated from eight units, each measuring 1 meter by 1 meter. All material was excavated in arbitrary, 10-centimeter levels and passed through 1/8-inch mesh. The maximum depth of the units ranged from 10 to 80 centimeters, with an average depth of 38 centimeters. During the excavations, no burials were documented, but 37 pieces of disassociated human bone were recovered and recorded. Following excavation, all the recovered materials were sent to the Department of Anthropology Museum, UC Davis.

In 1995, UC Davis completed a NAGPRA inventory and a Notice of Inventory Completion (NIC) for CA-NAP-433 NAGPRA collections and submitted them to the National Park Service. Subsequent lands research confirmed Reclamation's ownership and control of the CA-NAP-433 collection. On June 18, 2014, Ms. Megon Noble, at UC Davis, contacted Reclamation Region 10 to inform them that she was consulting with the Yocha Dehe Wintun Nation, California, on a non-Reclamation collection and had informed the tribe about the CA-NAP-433 collection.

Reclamation Region 10 initiated tribal consultation on the CA-NAP-433 collection in July 2017. In 2019, Reclamation Region 10 conducted a physical inventory of the CA-NAP-433 collection. In doing so, 156 human remains fragments were identified. The fragmentary remains included the 37 human skeletal fragments identified and recorded during the excavation of Units 8N/1E and 9N/1E, and an additional 119 human skeletal fragments from Units 8N-1E, 9N-1E, and 7N-E1, and “Sector G” that had been misidentified as faunal remains. No known individuals were identified. The 456 associated funerary objects are: 153 pieces of debitage, 145 culturally unmodified objects, 27 faunal bones, 26 organic samples, 24 flake tools, 23 bifaces, 15 cores, 13 handstones, six projectile points, five choppers, four formed flake tools, three modified stones, two awls, two cobble tools, two milling slabs, one hammerstone, one mortar, one modified faunal bone, one fire-cracked rock, one piece of miscellaneous ground stone, and one piece of ochre.

Determinations Made by the U.S. Department of the Interior, Bureau of Reclamation, Interior Region 10: California—Great Basin

Officials of the U.S. Department of the Interior, Bureau of Reclamation, Interior Region 10: California—Great Basin have determined that:

• Pursuant to 25 U.S.C. 3001(9), the human remains described in this notice represent the physical remains of two individuals of Native American ancestry.

• Pursuant to 25 U.S.C. 3001(3)(A), the 456 objects described in this notice are reasonably believed to have been placed with or near individual human remains at the time of death or later as part of the death rite or ceremony.

• Pursuant to 25 U.S.C. 3001(2), there is a relationship of shared group identity that can be reasonably traced between the Native American human remains and associated funerary objects and the Cachil DeHe Band of Wintun Indians of the Colusa Indian Community of the Colusa Rancheria, California; Kletsel Dehe Band of Wintun Indians (previously listed as Cortina Indian Rancheria and the Cortina Indian Rancheria of Wintun Indians of California); and the Yocha Dehe Wintun Nation, California (previously listed as Rumsey Indian Rancheria of Wintun Indians of California) (hereafter referred to as “The Tribes”).

Additional Requestors and Disposition

Lineal descendants or representatives of any Indian Tribe or Native Hawaiian organization not identified in this notice that wish to request transfer of control of these human remains and associated funerary objects should submit a written request with information in support of the request to Melanie Ryan, NAGPRA Specialist/Physical Anthropologist, Bureau of Reclamation, Interior Region 10: California—Great Basin, CGB-153, 2800 Cottage Way, Sacramento, CA 95825, telephone (916) 978-5526, email emryan@usbr.gov, by October 8, 2020. After that date, if no additional requestors have come forward, transfer of control of the human remains and associated funerary objects to The Tribes may proceed.

The U.S. Department of the Interior, Bureau of Reclamation, Interior Region 10: California—Great Basin, is responsible for notifying The Tribes that this notice has been published.

Dated: August 10, 2020.
Melanie O'Brien,
Manager, National NAGPRA Program.

[FR Doc. 2020-19703 Filed 9-4-20; 8:45 am]

BILLING CODE 4312-52-P